COMMODITY FUTURES TRADING COMMISSION

Sunshine Act Meeting

Time and Date: 11 a.m., Friday, July 9, 2004.

Place: 1155 21st St., NW., Washington, DC 9th Floor Commission Conference Room.

Status: Closed.

Matters to be Considered: Surveillance matters.

Contact Person for More Information: Jean A. Webb, 202-418-5100.

Jean A. Webb,
Secretary of the Commission.

[FR Doc. 04-14001 Filed 6-16-04; 2:58 pm]

BILLING CODE 6351-01-M